DEPARTMENT OF TRANSPORTATION

Surface Transportation Board

[STB Finance Docket No. 33993]

Delaware Valley Railway Company, Inc.—Acquisition and Operation Exemption—Delaware Transportation Group, Inc. and Gettysburg Railway Company, Inc.

Delaware Valley Railway Company, Inc. (Delaware Valley), a Class III rail carrier, has filed a notice of exemption under 49 CFR 1150.41 to acquire, pursuant to an agreement, the assets of Delaware Transportation Group, Inc.,¹ and the right to operate from Gettysburg Railway Company, Inc.,² over approximately 23.4 miles of rail line between milepost 31.20, at Gettsyburg, PA, and milepost 7.84, at Mt. Holly Springs, PA. Delaware Valley certifies that its projected revenues will not result in the creation of a Class II or Class I rail carrier, and further certifies that its projected annual revenues will not exceed $5 million.

¹ See Delaware Transportation Group, Inc.—Acquisition Exemption—Delaware Valley Railway Company, Inc., STB Finance Docket No. 33503 (STB served Nov. 21, 1997).

² See Gettysburg Railway Company, Inc.—Lease and Operation Exemption—Delaware Transportation Group, Inc., STB Finance Docket No. 33504 (STB served Nov. 21, 1997).

The transaction was scheduled to be consummated on or shortly after January 11, 2001.

If the verified notice contains false or misleading information, the exemption is void ab initio. Petitions to revoke the exemption under 49 U.S.C. 10502(d) may be filed at any time. The filing of a petition to revoke does not automatically stay the transaction.

An original and 10 copies of all pleadings, referring to STB Finance Docket No. 33993, must be filed with the Surface Transportation Board, Office of the Secretary, Case Control Unit, 1925 K Street, NW., Washington, DC 20423-0001. In addition, one copy of each pleading must be served on Louis E. Gitomer, Ball Janik LLP, 1455 F Street, NW., Suite 225, Washington, DC 20005.

Board decisions and notices are available on our website at “WWW.STB.DOT.GOV.”

Decided: January 16, 2001.
By the Board, David M. Konschnik, Director, Office of Proceedings.
Vernon A. Williams,
Secretary.

[FR Doc. 01-1831 Filed 1-22-01; 8:45 am]

BILLING CODE 4915-00-P